CONSUMER PRODUCT SAFETY COMMISSION

16 CFR Part 1610

[Docket No. CPSC-2019-0008]

Request for Information About Possible Exemptions From Testing and Other Changes to the Standard for the Flammability of Clothing Textiles

AGENCY: U.S. Consumer Product Safety Commission.

ACTION: Request for information.

SUMMARY: The U.S. Consumer Product Safety Commission (CPSC) requests information about possible changes to the Commission's Standard for the Flammability of Clothing Textiles to expand the list of fabrics that are exempt from testing under the standard. CPSC is particularly interested in receiving information about the possibility of adding spandex to the list of fabrics that are exempt from the testing requirements. CPSC also would like information about the equipment and procedures specified in the standard and possible ways to update those provisions to reduce the burdens associated with the testing requirements.

DATES: CPSC will accept written comments through June 24, 2019.

ADDRESSES: You may submit written comments, identified by Docket No. CPSC-2019-20008, using the methods described below. CPSC encourages you to submit comments electronically, rather than in hard copy.

Electronic Submissions: Submit electronic comments to the Federal eRulemaking Portal at: www.regulations.gov. Follow the instructions for submitting comments provided on the website. To ensure timely processing of comments, please submit all electronic comments through www.regulations.gov, rather than by email to CPSC.

Written Submissions: Submit written comments by mail, hand delivery, or courier to: Division of the Secretariat, U.S. Consumer Product Safety Commission, Room 820, 4330 East-West Highway, Bethesda, MD 20814; telephone (301) 504-7923.

Instructions: All submissions must include the agency name and docket number for this notice. CPSC may post all comments, without change, including any personal identifiers, contact information, or other personal information provided, to: http://www.regulations.gov. Do not submit confidential business information, trade secret information, or other sensitive or protected information that you do not want to be available to the public. If furnished at all, such information should be submitted by mail, hand delivery, or courier.

Docket: For access to the docket to read background documents or comments, go to: www.regulations.gov, and insert the docket number, CPSC-2019-20008, into the “Search” box, and follow the prompts.

FOR FURTHER INFORMATION CONTACT: Allyson Tenney, Director, Division of Engineering, Directorate for Laboratory Sciences, U.S. Consumer Product Safety Commission, 5 Research Place, Rockville, MD 20850; telephone: (301) 987-2769; email: ATenney@cpsc.gov.

SUPPLEMENTARY INFORMATION:

I. Background

On June 16, 2017, the Commission requested input from interested parties about ways to reduce the burdens and costs associated with existing regulations, while still protecting consumers from risks of death or injuries associated with consumer products. 82 FR 27636. The Commission followed up on this burden reduction goal in its Fiscal Year 2019 Operating Plan, directing CPSC staff to review possibilities for reducing burdens, including “expanding exemptions for flammability testing.” U.S. Consumer Product Safety Commission, Fiscal Year 2019 Operating Plan, p. 18 (Oct. 10, 2018), available at: https://www.cpsc.gov/content/fiscal-year-2019-operating-plan. Accordingly, this notice requests information about expanding the exemptions from flammability testing and other ways to reduce the burdens associated with the Commission's Standard for the Flammability of Clothing Textiles.

The Flammable Fabrics Act (15 U.S.C. 1191-1204) authorizes the Commission to issue flammability standards, under certain circumstances, when “needed to protect the public against unreasonable risk of the occurrence of fire leading to death or personal injury, or significant property damage.” 15 U.S.C. 1193(a). Under this authority, the Commission adopted a Standard for the Flammability of Clothing Textiles in 16 CFR part 1610. The standard applies to clothing and textiles intended to be used for clothing. The regulations provide testing requirements, establish three classes of flammability, set out the criteria for classifying textiles, and prohibit the use of textiles that exhibit rapid and intense burning. The purpose of these regulations is to reduce the risk of injury or death by prohibiting the use of dangerously flammable clothing textiles. 16 CFR 1610.1(a).

The regulations exempt certain fabrics from the testing requirements because “experience gained from years of testing in accordance with the Standard demonstrates that certain fabrics consistently yield acceptable results when tested in accordance with the Standard.” 16 CFR 1610.1(d). Currently, the following fabrics are exempt from the testing requirements:

(1) Plain surface fabrics, regardless of fiber content, weighing 2.6 ounces per square yard or more, and

(2) All fabrics, both plain surface and raised-fiber surface textiles, regardless of weight, made entirely from any of the following fibers or entirely from combination of the following fibers: Acrylic, modacrylic, nylon, olefin, polyester, wool.

Id.

II. Request for Information

CPSC is considering changes to the Standard for the Flammability of Clothing Textiles to reduce the costs and burdens associated with these requirements. One specific possibility that industry members have suggested is to add spandex to the list of fabrics in 16 CFR 1610.1(d)(2) that are exempt from the testing requirements in the standard. In addition, possible updates to the equipment and procedures specified in the standard may reduce the burdens associated with the testing requirements. CPSC requests comments on the following specific topics:

A. Possible Exemption of Spandex From Testing Requirements:

1. Data Regarding Spandex Test Results

CPSC staff is aware of stakeholder interest in adding spandex fibers to the Specific Exemptions in 16 CFR 1610.1(d). Please provide relevant information and data about spandex fibers that would help CPSC determine whether spandex “consistently yield[s] acceptable results when tested in accordance with the Standard.” CPSC is particularly interested in test data from testing a range of fabric constructions, fabric weights, and fiber blends. For example, it would be helpful to receive information about:

(1) Plain surface fabrics with spandex blended with one or a combination of the exempted fibers listed in 16 CFR 1610.1(d)(2) weighing less than 2.6 ounces per square yard, and

(2) raised surface fabrics, regardless of weight, that contain spandex with one or a combination of the exempted fibers listed in 16 CFR 1610.1(d)(2).

2. Burden and Cost Associated With Testing Spandex

Please provide information about the general test burden and costs associated with testing fabric containing spandex fibers. The following specific information would be helpful:

• How much testing is required for fabrics containing spandex subject to 16 CFR part 1610?

• What are the costs associated with the required testing?

• What types of fabrics and garments require testing?

B. Additional Possible Changes to the Standard:

1. Availability and Specifications of Stop Thread

Section 1610.5 specifies the test apparatus and materials that must be used for flammability testing. The flammability test apparatus must include, among other things, a particular stop thread that is stretched from the spool through stop guides. The stop thread must be “a spool of No. 50, white, mercerized, 100% cotton sewing thread.” 16 CFR 1610.5(a)(2)(ii). CPSC staff is aware that this stop thread may have limited availability or that the numbering specified in the standard may be outdated. Please provide comments about the specifications of the stop thread and thread availability. What procedures are used to confirm the thread meets the specifications?

2. Refurbishing (Dry-Cleaning and Laundering)

Section 1610.6(b)(1)(i) specifies a dry cleaning procedure as part of the process of refurbishing plain and raised textile fabrics. As part of the dry cleaning procedure, the solvent perchloroethylene is required in 16 CFR 1610.6(b)(1)(i). Staff is aware of the limited availability of, and legal restrictions on the use of, perchloroethylene solvent. Please provide any comments on the testing burden or cost of performing the dry cleaning procedure with perchloroethylene solvent. Please provide details, and potential alternatives, when possible.

Section 1610.6(b)(1)(ii) requires samples to be washed and dried in accordance with American Association of Textile Chemists and Colorists (AATCC) Test Method 124-2006, Appearance of Fabrics After Repeated Home Laundering. AATCC 124-2006 requires the use of an automatic washer (Table III) and tumble dryer (Table IV) that meet certain conditions. Staff is aware of the limited availability of automatic washing machines, and possibly dryers, capable of meeting the conditions in AATCC 124-2006. Please provide any comments on the testing burden or cost of performing the laundering procedure with the automatic washing machine and tumble dryer specified in the standard. Please provide details, and potential alternatives, when possible.

3. Test Result Codes

The standard lists reporting codes in 16 CFR 1610.8(b)(2) to describe the burning behavior of raised surface fabrics. The reporting codes, which are based on test results, indicate the proper classification for the textile. CPSC staff has received input that these codes may be confusing. Please provide any comments on the use or needed clarification of these codes.

4. Additional Burdens Associated With 16 CFR Part 1610

Please provide other input and recommendations about opportunities to reduce the cost of testing requirements or other costs and burdens associated with 16 CFR part 1610. Also please identify test procedures that may need clarifications, and provide recommendations or alternatives that may reduce the burdens associated with these regulations, as well as details about the costs of those alternatives.

Alberta E. Mills,
Secretary, Consumer Product Safety Commission.

[FR Doc. 2019-08140 Filed 4-22-19; 8:45 am]

BILLING CODE 6355-01-P